FEDERAL MARITIME COMMISSION

Notice of Agreement Filed

The Commission hereby gives notice of the filing of the following agreement under the Shipping Act of 1984. Interested parties may submit comments on the agreement to the Secretary, Federal Maritime Commission, Washington, DC 20573, within ten days of the date this notice appears in the Federal Register. A Copy of the agreement is available through the Commission's Web site (www.fmc.gov) or by contacting the Office of Agreements at (202)-523-5793 or tradeanalysis@fmc.gov.

Agreement No.: 012195.

Title: CSCL/UASC Slot Exchange Agreement.

Parties: China Shipping Container Lines Co., Ltd. and China Shipping Container Lines (Hong Kong) Co., Ltd. (acting as a single party) and United Arab Shipping Company (S.A.G.).

Filing Party: Wayne Rohde, Esq.; Cozen O'Connor; 1627 I Street, NW. Suite 1100; Washington, DC 20006.

Synopsis: The agreement authorizes the parties to charter space to each other in the trade between U.S. East Coast ports and Mediterranean ports, and between ports in Asia and Europe.

Dated: March 1, 2013.
By Order of the Federal Maritime Commission.
Rachel E. Dickon,
Assistant Secretary.

[FR Doc. 2013-05259 Filed 3-5-13; 8:45 am]

BILLING CODE P